DEPARTMENT OF ENERGY

Federal Energy Regulatory Commission

[Project No. 6618-007]

Christopher M. Anthony; Notice of Termination of Exemption by Implied Surrender and Soliciting Comments and Protests

Take notice that the following hydroelectric proceeding has been initiated by the Commission:

a. Type of Proceeding: Termination of exemption by implied surrender.

b. Project No.: 6618-007.

c. Date Initiated: August 13, 2013.

d. Exemptee: Christopher M. Anthony.

e. Name and Location of Project: The Frankfort Project is located at the head of tide on Marsh Stream, near the Town of Frankfort, in Waldo County, Maine.

f. Filed Pursuant to: 18 CFR 4.106.

g. Exemptee Contact Information: Christopher Anthony, Express Hydro Services, 312 Somerset Avenue, Pittsfield, Maine 04967.

h. FERC Contact: B. Peter Yarrington, (202) 502-6129 or peter.yarrington@ferc.gov.

i. Deadline for filing comments and protests is 30 days from the issuance of this notice by the Commission. Please file your submittal electronically via the Internet (eFiling) in lieu of paper. Please refer to the instructions on the Commission's Web site under http://www.ferc.gov/docs-filing/efiling.asp and filing instructions in the Commission's Regulations at 18 CFR 385.2001(a)(1)(iii). To assist you with eFilings you should refer to the submission guidelines document at http://www.ferc.gov/help/submission-guide/user-guide.pdf. In addition, certain filing requirements have statutory or regulatory formatting and other instructions. You should refer to a list of these “qualified documents” at http://www.ferc.gov/docs-filing/efiling/filing.pdf. You must include your name and contact information at the end of your comments. Please include the project number (P-6618-007) on any documents or motions filed. The Commission strongly encourages electronic filings; otherwise, you should submit an original and seven copies of any submittal to the following address: The Secretary, Federal Energy Regulatory Commission, Mail Code: DHAC, PJ-12, 888 First Street NE., Washington, DC 20426.

j. Description of Project Facilities: The project consists of a powerhouse containing one generator unit rated at 400 kilowatts with a hydraulic capacity of 440 cubic feet per second, a Denil-style fishway, and appurtenant facilities. The dam used by the project, which is immediately adjacent to the powerhouse, is a 14-foot-high, 250-foot-long stone masonry structure owned by the Town of Frankfort.

k. Description of Proceeding: The project's exemption from licensing was granted September 20, 1982 (20 FERC ¶ 62,498). Article 2 of the exemption requires the exemptee to comply with any terms and conditions set by federal and state resource agencies for the protection of fish and wildlife resources. The exemptee has failed to comply with terms and conditions set by the U.S. Fish and Wildlife Service (FWS) and the state of Maine for designing, constructing, and operating fish passage facilities at the project.

The exemptee completed installation of facilities for upstream and downstream passage of fish, including Atlantic salmon, pursuant to Article 2 in 1986; however, deficiencies in the design and construction of the facilities, and ongoing lack of maintenance, have prevented the successful operation of the facilities pursuant to Article 2. In 2009, Atlantic salmon using project waters were federally listed as endangered under the Endangered Species Act and in May 2012, Commission staff and staff from the FWS and National Marine Fisheries Service began to work intensively with the exemptee to correct ongoing problems with the fish passage facilities. To date, the exemptee has failed to make any significant progress in correcting the problems, despite notice from Commission staff that such failure constitutes violation of Article 2 and threatens endangered Atlantic salmon.

l. This notice is available for review and reproduction at the Commission in the Public Reference Room, Room 2A, 888 First Street NE., Washington, DC 20426. The filing may also be viewed on the Commission's Web site at http://www.ferc.gov/docs-filing/elibrary.asp. Enter the Docket number (P-6618-007) excluding the last three digits in the docket number field to access the notice. You may also register online at http://www.ferc.gov/docs-filing/esubscription.asp to be notified via email of new filings and issuances related to this or other pending projects. For assistance, call toll-free 1-866-208-3676 or email FERCOnlineSupport@ferc.gov. For TTY, call (202) 502-8659.

m. Individuals desiring to be included on the Commission's mailing list should so indicate by writing to the Secretary of the Commission.

n. Comments and Protests—Anyone may submit comments or protests in accordance with the requirements of Rules of Practice and Procedure, 18 CFR 385.210 and 385.211. In determining the appropriate action to take, the Commission will consider all protests filed. Any protests must be received on or before the specified deadline date for the particular proceeding.

o. Filing and Service of Responsive Documents—Any filing must (1) bear in all capital letters the title “COMMENTS or “PROTEST,” as applicable; (2) set forth in the heading the project number of the proceeding to which the filing responds; (3) furnish the name, address, and telephone number of the person commenting or protesting; and (4) otherwise comply with the requirements of 18 CFR 385.2001 through 385.2005. All comments or protests must set forth their evidentiary basis and otherwise comply with the requirements of 18 CFR 4.34(b). All comments or protests should relate to project works which are the subject of the termination of exemption. A copy of any protest must be served upon each representative of the exemptee specified in item g above. A copy of all other filings in reference to this notice must be accompanied by proof of service on all persons listed in the service list prepared by the Commission in this proceeding, in accordance with 18 CFR 4.34(b) and 385.2010.

p. Agency Comments—Federal, state, and local agencies are invited to file comments on the described proceeding. If any agency does not file comments within the time specified for filing comments, it will be presumed to have no comments.

Dated: August 13, 2013.
Kimberly D. Bose,
Secretary.

[FR Doc. 2013-20161 Filed 8-16-13; 8:45 am]

BILLING CODE 6717-01-P